DEPARTMENT OF DEFENSE

Department of the Army

Record of Decision (ROD) for Military Training Activities at Makua Military Reservation (MMR), Hawaii

AGENCY: Department of the Army, DoD.

ACTION: Notice of Availability (NOA).

SUMMARY: Senior Commander, US Army Hawaii, has reviewed the Final Environmental Impact Statement (EIS) for Military Training Activities at MMR and has made the decision to proceed with a variation of Alternative 2 to recommence live-fire training at MMR. Alternative 2 in the Final EIS analyzes up to 50 combined-arms live-fire exercises (CALFEX) and 200 convoy live-fire exercises (LFX). The variation of Alternative 2 allows up to 32 CALFEXs and 150 convoy LFXs, and allows squad- and platoon-level LFXs that lead up to the company-level CALFEX. This decision also reconfirms that the Army will not use MMR for live-fire training at night until all relevant fire suppression measures are met and approved in accordance with the U.S. Fish and Wildlife Service 2007 and 2008 Biological Opinions. The Army has decided not to use the following weapon systems at MMR in order to further protect the environmental and cultural resources of the valley: Tracer ammunition; Javelin and inert, tube-launched, optically tracked, wire-guided (TOW) missiles; anti-tank (AT-4) and 2.75-inch rockets; the shoulder-launched multipurpose assault weapon (SMAW); and illumination munitions. This decision also eliminates the use of Ka'ena Point and C-Ridge for training, due to the risk of wildfire and the potential impacts to threatened and endangered species. This Alternative 2 variation represents a proper balance for meeting the training requirements of the units of the 25th Infantry Division (ID), U.S. Army Reserve, Hawaii Army National Guard, and other users of the range at MMR, while ensuring the Army meets its responsibilities to preserve the land and resources at MMR, and continues to be a good neighbor to the community along the Wai'anae coast.

ADDRESSES: Address requests for a copy of the ROD to the U.S. Army Garrison, Hawaii, Attention: Public Affairs Office, 742 Santos Dumont, WAAF, Schofield Barracks, HI 96857, or download a copy from the following Web site: http://www.garison.hawaii.army.mil/makuaeis.

FOR FURTHER INFORMATION CONTACT: U.S. Army Garrison, Hawaii Public Affairs Office at (808) 656-3152; facsimile at (808) 656-3162 during normal business hours Monday through Friday, 9 a.m. to 5 p.m. HST.

SUPPLEMENTARY INFORMATION: The Final EIS assessed four alternatives to accomplish combined-arms live-fire training on Hawaii: MMR Alternative 1 (Reduced Capacity Use with Some Weapons Restrictions), MMR Alternative 2 (Full Capacity Use with Some Weapons Restrictions), MMR Alternative 3 (Full Capacity Use with Fewer Weapons Restrictions), and Pohakuloa Training Area (PTA) Alternative 4 (Full Capacity Use with Fewer Weapons Restrictions). A No Action Alternative, under which non live-fire military training would continue to be conducted at MMR, was also evaluated.

Implementation of the Alternative 2 variation may result in several major impacts to: Recreational resources, noise from training, soils, natural resources (including threatened and endangered species), cultural resources, surface water quality from erosion, wildfires, and to public safety from the transport of munitions through the Wai'anae community.

The Army has adopted all practicable mitigation measures to avoid or minimize environmental harm. Mitigation measures are summarized in the ROD and are described in greater detail in Chapter 4 of the Final EIS.

Recommencing live-fire military training activities at MMR was selected because it best meets the military's collective training requirements. The decision to proceed with a variation of Alternative 2 incorporates analyses in the Final EIS, involvement from the public, consideration of the cumulative impacts associated with all the alternatives evaluated, and the training requirements of the 25th ID.

The EIS considered construction of facilities at Pohakuloa Training Area on the island of Hawaii (Alternative 4). This alternative did not meet the purpose and need of the proposed action as well as the selected action. A fuller rationale for the decision can be found in the ROD.

Dated: July 16, 2009.
Addison D. Davis, IV,
Deputy Assistant Secretary of the Army, (Environment, Safety and Occupational Health).

[FR Doc. E9-17372 Filed 7-23-09; 8:45 am]

BILLING CODE 3710-08-M